DEPARTMENT OF DEFENSE

Office of the Secretary

[Transmittal No. 21-45]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-45 with attached Policy Justification.

Dated, June 2, 2024.
Aaron T. Siegel,
Alternate OSD Federal Register Liaison Officer, Department of Defense.

BILLING CODE 6001-FR-P

BILLING CODE 6001-FR-C

Transmittal No. 21-45

Notice of Proposed Issuance of Letter of Offer Pursuant to Section 36(b)(1) of the Arms Export Control Act, as amended

(i) Prospective Purchaser: Government of the United Arab Emirates

(ii) Total Estimated Value:

Major Defense Equipment | $ 0 million
Other | $980.4 million
TOTAL | $980.4 million
Funding Source: National Funds

(iii) Description and Quantity or Quantities of Articles or Services under Consideration for Purchase:

Major Defense Equipment (MDE):

None

Non-MDE:

Follow-on sustainment and support of C-17 fleet to include aircraft hardware and software modifications and support; Joint Mission Planning System software; classified software support for Electronic Warfare (EW) self-protection; aircraft and engine support equipment, components, consumables, spare parts and repair/return; publications and technical documentation; heavy maintenance support; participation in the C-17 Virtual Fleet for Total System Sustainment (TSS) contractor logistics support and Material Improvement Program (MIP); other U.S. Government and contractor engineering, technical, and logistical support services; and other related elements of program support.

(iv) Military Department: Air Force (AE-D-QAN)

(v) Prior Related Cases, if any: AE-D-QAC

(vi) Sales Commission, Fee, etc., Paid, Offered, or Agreed to be Paid: None

(vii) Sensitivity of Technology Contained in the Defense Article or Defense Services Proposed to be Sold: None

(viii) Date Report Delivered to Congress: July 19, 2022

* As defined in Section 47(6) of the Arms Export Control Act.

POLICY JUSTIFICATION

United Arab Emirates—C-17 Aircraft Sustainment

The Government of the United Arab Emirates (UAE) has requested to buy follow-on sustainment and support of C-17 fleet to include aircraft hardware and software modifications and support; Joint Mission Planning System software; classified software support for EW self-protection; aircraft and engine support equipment, components, consumables, spare parts and repair/return; publications and technical documentation; heavy maintenance support; participation in the C-17 Virtual Fleet for TSS contractor logistics support and MIP; other U.S. Government and contractor engineering, technical, and logistical support services; and other related elements of program support. The total estimated cost is $980.4 million.

This proposed sale will support the foreign policy and national security of the United States by helping to improve the security of an important regional partner. The UAE has been, and continues to be, a vital U.S. partner for political stability and economic progress in the Middle East.

The proposed renewal of C-17 aircraft support will provide the Government of the UAE with a credible defense capability, provide strategic and humanitarian airlift, and ensure interoperability with U.S. forces. The UAE already operates the C-17 and will have no difficulty absorbing the additional sustainment into its armed forces.

The proposed sale of this equipment and support will not alter the basic military balance in the region.

The prime contractor will be The Boeing Company, Chicago, IL. The purchaser typically requests offsets. Any offset agreement will be defined in negotiations between the purchaser and the contractor.

Implementation of this proposed sale may require the assignment of up to twelve (12) U.S. Government or contractor representatives to the UAE. Implementation of this proposed sale will require periodic Program Management Reviews in the United States or in the UAE.

There will be no adverse impact on U.S. defense readiness as a result of this proposed sale.

[FR Doc. 2024-12389 Filed 6-5-24; 8:45 am]

BILLING CODE 6001-FR-P